DEPARTMENT OF AGRICULTURE

Agricultural Research Service

Availability of the Final Environmental Assessment (EA) and a Finding of No Significant Impact (FONSI) of the J. Phil Campbell, Sr., National Resource Conservaton Center (JPC-NRCC)

AGENCY: Agricultural Research Service, USDA.

ACTION: Notice.

SUMMARY: Notice is hereby given that the U.S. Department of Agriculture (USDA) Agricultural Research Service (ARS) has made a FONSI for transferring the land and real estate at the JPC-NRCC in Watkinsville, Georgia, to the Board of Regents of the University System of Georgia for the benefit of the University of Georgia (UGA). The FONSI document is based on impact analysis documented in the EA that was issued for 30-day public comment beginning July 5, 2013 and finalized on August 29, 2013.

FOR FURTHER INFORMATION CONTACT: Cal Mather, Environmental Protection Specialist, USDA-ARS-SHEMB, NCAUR, 1815 N. University Street, Room 2060, Peoria, Illnois 61604, Telephone: 309-681-6608, or email: cal.mather@ars.usda.gov. You may contact Mr. Mather for a hard copy of the FONSI. Copies of the Final EA and FONSI for the JPC-NRCC Land Transfer are also available for public inspection during normal business hours at the following locations:

• J. Phil Campbell, Sr., Research and Education Center Headquarters, 1420 Experiment Station Road, Watkinsville, Georgia 30677.

• Oconee County Public Library, 1080 Experiment Station Road, Watkinsville, Georgia 30677.

• Athens-Clarke County Public Library, 2025 Baxter Street, Athens, Georgia 30606.

SUPPLEMENTARY INFORMATION: In accordance with the National Environmental Policy Act (NEPA) of 1969, as amended, and the Federal Land Policy and Management Act of 1976 (FLPMA), as amended, the USDA has prepared an EA for the proposed transfer of approximately 1,055 acres of land at the JPC-NRCC from the USDA ARS in Watkinsville, Georgia to the Board of Regents of the University System of Georgia for the benefit of UGA. The USDA ARS signed a FONSI on August 30, 2013 based on the Final EA.

The Final EA evaluated USDA's proposal to transfer approximately 1,055 acres of land and facilities at the JPC-NRCC from USDA ARS in Watkinsville, GA to the Board of Regents of the University System of Georgia for the benefit of UGA. As a condition of the transfer, UGA would commit to using the property for agricultural and natural resources research for a period of 25 years, supporting the strategic goals of USDA and establishing a Beginning Farmers and Ranchers Program at the Property. UGA would assume responsibility for management and maintenance of the constructed facilities and land to be conveyed from USDA.

The JPC-NRCC has been in operation as a USDA ARS research station since 1937, with the mission, “to develop and transfer environmentally sustainable and profitable agricultural systems to landowners and managers in order to protect the natural resource base, build accord with non-agricultural sectors, and support healthy rural economies.” The facility was closed under Public Law (Pub. L.) 112-55, Consolidated and Further Continuing Appropriations Act, 2012. In August 2012, a 5-year revocable permit was issued between USDA and the Board of Regents of the University System of Georgia that allows the College of Agricultural and Environmental Sciences (CAES) to utilize the Property as a Research and Education Center (REC) and conduct a wide range of research, teaching, extension and demonstration activities. Since August 2012, it has been operated by the CAES as the JPC-REC under this permit. A Memorandum of Understanding was executed on March 25, 2013 that would allow the formal transfer of the Property from USDA to the Board of Regents of the University System of Georgia.

The property transfer will be done with no monetary cost to UGA and a Quit Claim Deed will be prepared by the USDA to convey the title/property rights to the Board of Regents of the University System of Georgia. The Quit Claim Deed will incorporate any use restrictions identified by the NEPA process as well as the 25-year use restriction for agricultural and natural resources research as required by Section 732 of the Public Law.

Two alternatives are analyzed in the Final EA, the No Action Alternative and the Proposed Action. The Final EA addresses potential impacts of these alternatives on the natural and human environment.

• Alternative 1—No Action. The USDA would retain possession of the approximately 1,055 acres of land and facilities at the JPC-NRCC. USDA would no longer operate and/or maintain the property and current research at the property would cease.

• Alternative 2—Proposed Action. The USDA would formally transfer approximately 1,055 acres of land at the JPC-NRCC to the Board of Regents of the University System of Georgia. As a condition of the transfer, UGA would commit to using the Property for agricultural and natural resources research for a period of 25 years, supporting the strategic goals of USDA and establishing a Beginning Farmers and Ranchers Program at the Property. UGA would assume responsibility for management and maintenance of the constructed facilities and land to be conveyed from USDA. This land transfer alternative meets the purpose and need of the action.

In addition, one alternative was considered in the Final EA but eliminated from detailed study. In this alternative, USDA would retain possession of the land and it would be transferred to the General Services Administration for disposal. Since it cannot reasonably be determined who would ultimately take possession of the property and how it would be utilized, it was not analyzed in detail in the EA.

A Notice of Availability of the Draft EA was issued in the Federal Register on July 5, 2013. This notice announced the opening of a 30-day public comment period. The USDA used and coordinated the NEPA commenting process to satisfy the public involvement process for Section 106 of the National Historic Preservation Act (16 U.S.C. 470(f) as provided for in 36 CFR 800.2(d)(3)). No comments were received during the public comment period. Based on its analysis of the Final EA for the property transfer, ARS has found that transferring the land and buildings to the Board of Regents of the University System of Georgia for the benefit of UGA would have no significant impact on the quality of the human environment. Therefore, ARS will not prepare an Environmental Impact Statement for this proposed action.

Dated: October 21, 2013.
Caird E. Rexroad, Jr.,
Associate Administrator, Agricultural Research Service.

[FR Doc. 2013-26023 Filed 10-31-13; 8:45 am]

BILLING CODE 3410-03-P